DEPARTMENT OF ENERGY

Federal Energy Regulatory Commission

[Docket No. RP05-149-000]

Transwestern Pipeline Company; Notice of Tariff Filing

January 12, 2005.

Take notice that on January 7, 2005, Transwestern Pipeline Company, LLC (Transwestern) tendered for filing a letter in accordance with its FERC Gas Tariff, Third Revised Volume No. 1, to notify the Commission of changes to the Supply Pooling Points list on Transwestern's Web site.

Transwestern states that in its Order 637 Compliance filings, Transwestern received Commission approval for rate schedule SP-1 (Supply Pooling Service) by Order dated October 10, 2002. Transwestern further states that the SP-1 rate schedule provides that Transwestern will post on its Web site the list of physical receipt points associated with each supply pooling point and that Transwestern will file with the Commission any additions or deletions to the list of available points of service.

Transwestern states that the receipt point on the attached list will be added to Transwestern's Supply Pooling Points list on the Transwestern Web site.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-237 Filed 1-21-05; 8:45 am]

BILLING CODE 6717-01-P